DEPARTMENT OF JUSTICE

Notice of Lodging of Consent Decree Under the Comprehensive Environmental Response, Compensation, and Liability Act

Notice is hereby given that on December 12, 2001 a proposed Consent Decree (“Decree”) in United States et al. v. The S.W. Chemical Company, Inc. Civil Action No. 01-2404, was lodged with the United States District Court for the District of Colorado. The action was filed pursuant to section 107(a)(1) and (4) of the Comprehensive Environmental Response, Compensation, and Liability Act (“CERCLA”), 42 U.S.C. 9607(a)(1) and (4). The action concerns EPA's costs of responding to the release or threatened release of hazardous substances at or from the Denver Radium Superfund Site, Operable Unit VIII, in the City and County of Denver, Colorado, also known as the Shattuck Superfund Site (the “Site”), and possible damages for injury to or destruction of, or loss of natural resources resulting from the release of hazardous substances from the Site.

Under the terms of the Decree The S.W. Shattuck Chemical Company, Inc. (the “Defendant”), will: (a) Pay the United States $5.45 million to be deposited into an EPA special account to offset EPA's response costs at the Site; (b) pay $250,000 to the United States Department of the Interior to settle a potential natural resource damages claim; and (c) establish a trust and convey the 5.9 acre parcel which is the subject of the environmental clean-up to the trust for sale and distribution of net sale proceeds to EPA's special account for the Site. The decree also includes proposed settlement terms between the State of Colorado and the Defendant.

The Department of Justice will receive comments relating to the proposed Consent Decree for a period of forty-five (45) days from the date of this publication. As a result of the discovery of anthrax contamination at the District of Columbia mail processing center in mid-October, 2001, the delivery of regular first-class mail sent through the U.S. Postal Service has been disrupted. Consequently, public comments which are addressed to the Department of Justice in Washington, DC and sent by regular, first-class mail through the U.S. Postal Service are not expected to be received in a timely manner. Therefore, comments should be addressed to the Assistant Attorney General, Environment and Natural Resources Division, Department of Justice, and sent to (1) Denver Field Office, 999 18th Street, Suite 945NT, Denver, CO 80202; and/or (2) by facsimile to (202) 353-0296; and/or (3) by overnight delivery, other than through the U.S. Postal Service, to Chief, Environmental Enforcement Section, 1425 New York Avenue NW., 13th Floor, Washington, DC 20005. Each communication should refer to United States et al. v. The S.W. Shattuck Chemical Company, Inc., D.J. Ref. 90-11-2-741/1.

The proposed Consent Decree may be examined at the offices of the EPA Superfund Records Center, EPA Region VIII, located at 999 18th Street (check in at Suite 300), Denver, Colorado 80202. A copy of the proposed Consent Decree may also be obtained by faxing a request to Tonia Fleetwood, Department of Justice Consent Decree Library, fax no. (202) 616-6584; telephone confirmation no (202) 514-1547. There is a charge for the copy (25 cents per page reproduction cost). Upon requesting a copy, please mail a check payable to the “U.S. Treasury”, in the amount of $17.75, to: Consent Decree Library, U.S. Department of Justice, PO Box 7611, Washington, DC 20044-7611. The check should refer to United States et al. v. The S.W. Shattuck Chemical Company, Inc., D.J. Ref. 90-11-2-741/1.

Robert Brook,
Assistant Section Chief, Environmental Enforcement Section, Environment and Natural Resources Division.

[FR Doc. 02-1118 Filed 1-15-02; 8:45 am]

BILLING CODE 4410-15-M